DEPARTMENT OF DEFENSE

Office of the Secretary

Availability of the Fiscal Year 2009 Department of Defense Services Contracts Inventory

AGENCY: Department of Defense (DoD).

ACTION: Notice of availability.

SUMMARY: In accordance with section 2330a of title 10 United States Code as amended by the National Defense Authorization Act for Fiscal Year 2008 (NDAA 08) section 807, the Office of the Director, Defense Procurement and Acquisition Policy, Office of Program Acquisition and Strategic Sourcing (DPAP/PASS) will make available to the public the inventory of activities performed pursuant to contracts for services. The inventory will be published to the Defense Procurement and Acquisition Policy Web site at the following location: http://www.acq.osd.mil/dpap. The services contract inventory for the Dept of the Army is included in the DoD Inventory; however, a more extensive inventory of Army service contracts can be found at http://www.asamra.army.mil/insourcing.

DATES: Inventory to be made publically available within 30 days after publication of this notice.

ADDRESSES: Send written comments and suggestions concerning this inventory to Victoria Revel, Procurement Analyst, (AT&L)DPAP/PASS, 3060 Defense Pentagon, Washington, DC 20301-3060.

FOR FURTHER INFORMATION CONTACT: Victoria Revel at (703) 695-8567 or e-mail victoria.revel@osd.mil.

Dated: October 15, 2010.
Mitchell S. Bryman,
Alternate OSD Federal Register Liaison Officer, Department of Defense.

[FR Doc. 2010-26353 Filed 10-19-10; 8:45 am]

BILLING CODE 5001-06-P